NUCLEAR REGULATORY COMMISSION

[NRC-2008-0500]

Proposed Revisions to the License Renewal Interim Staff Guidance Process and Regulatory Issue Summary 2007-16; Granting of Request To Extend the Comment Period

AGENCY: Nuclear Regulatory Commission (NRC).

ACTION: Granting of request to extend the comment period.

FOR FURTHER INFORMATION CONTACT: Mr. Matthew Homiack, Division of License Renewal, Office of Nuclear Reactor Regulation, U.S. Nuclear Regulatory Commission, Washington, DC 20555-0001; telephone 301-415-1683; or e-mail to Matthew.Homiack@nrc.gov.

SUPPLEMENTARY INFORMATION:

I. Introduction

The NRC published in the Federal Register, 74 FR 13272, on March 26, 2009, a request for public comment on proposed revisions to the License Renewal Interim Staff Guidance (LR-ISG) Process and NRC Regulatory Issue Summary (RIS) 2007-16, “Implementation of the Requirements of 10 CFR 54.37(b) for Holders of Renewed Licenses.” The proposed LR-ISG process revision incorporates changes to the existing process dated December 12, 2003, and basic framework for developing and implementing LR-ISGs. The proposed RIS revision clarifies the role of the LR-ISG process for including “newly identified” systems, structures, and components in accordance with Section 54.37(b) of Title 10, Part 54, “Requirements for Renewal of Operating Licenses for Nuclear Power Plants,” of the Code of Federal Regulations (10 CFR 54.37(b)). After the NRC staff considers any public comments, it will make a final determination regarding the proposed revisions to the LR-ISG process and RIS 2007-16.

II. Further Information

The NRC staff requested receipt of comments on the proposed LR-ISG process and RIS revisions by April 27, 2009. By this action, the NRC staff is extending the comment period until May 27, 2009. Comments received after May 27, 2009, will be considered, if it is practical to do so, but the NRC staff is able to ensure consideration only for comments received on or before this date.

III. Request To Extend the Comment Period

Basis for the Request

By letter dated April 6, 2009, the Nuclear Energy Institute (NEI) requested the following extension:

“On March 26, 2009, a Federal Register Notice was issued to request public comments on draft Revisions to the License Renewal Interim Staff Guidance Process (LR-ISG) and Regulatory Issue Summary (RIS) 2007-16. The Federal Register notice requested comments on these documents by April 27, 2009. We believe the industry will have substantive comments on these documents and feel that it would be beneficial to discuss the draft LR-ISG and the RIS in our next quarterly license renewal meeting (scheduled for April 28, 2009) before submitting our comments. Therefore, we respectfully request an extension of the April 27 date until May 29 to allow discussion with the Staff and time to collect industry comments after that discussion.”

Response to Request

The request for an extension to the comment period is approved for 30 days.

The NRC staff understands that industry stakeholders may have substantive comments on the proposed document revisions. The NRC staff agrees that discussions at a public meeting could be beneficial so that NEI and other stakeholders can better prepare and submit their comments. The NRC staff believes that these comments could be helpful in finalizing the revised LR-ISG process and RIS 2007-16. Therefore, the staff is approving a 30-day extension to the original public comment period, with the public comment period to end on May 27, 2009. The staff plans to discuss the two documents with the NEI at a public meeting on April 29, 2009, from 1 p.m. to 3 p.m., at NRC's headquarters in Rockville, MD. The public will be provided the opportunity to participate in this meeting prior to its closing. Interested members of the public may participate by teleconference. Additional details are available in the meeting notice available on the NRC's public Web site at http://adamswebsearch.nrc.gov/idmws/ViewDocByAccession.asp?AccessionNumber=ML090830226.

Members of the public are invited and encouraged to submit comments electronically to http://www.regulations.gov. Search on Docket ID: NRC-2008-0500 and follow the instructions for submitting comments. Comments may also be sent by mail to Michael Lesar, Chief, Rulemaking and Directives Branch, Mail Stop TWB-05-B01M, Office of Administration, U.S. Nuclear Regulatory Commission, Washington, DC 20555-0001.

Requests for technical information may be directed to the NRC contact, Mr. Matthew Homiack, Division of License Renewal, Office of Nuclear Reactor Regulation, at (301) 415-1683, or e-mail to Matthew.Homiack@nrc.gov.

You can access publicly available documents related to the March 26, 2009, notice using the following methods:

Regulations.gov: Documents related to this notice, including public comments, are accessible at http://www.regulations.gov, by searching on Docket ID: NRC-2008-0500.

NRC's Electronic Reading Room: Electronic copies of the proposed revisions to the LR-ISG process and RIS 2007-16 are available through the NRC's Electronic Reading Room on the NRC's public Web site. The proposed LR-ISG process revision can be found under tracking number LR-ISG-2007-01 under the “License Renewal” heading at http://www.nrc.gov/reading-rm/doc-collections/isg. The proposed revision to RIS 2007-16 can be found under the “Documents for Comment” heading at http://www.nrc.gov/reading-rm/doc-collections/gen-comm.

NRC's Public Document Room (PDR): The public may examine and have copied for a fee, publicly available documents at the NRC's PDR, Public File Area O-1F21, One White Flint North, 11555 Rockville Pike, Rockville, Maryland.

NRC's Agencywide Documents Access and Management System (ADAMS): Publicly available documents created or received at the NRC after November 1, 1999, are available electronically at the NRC's Electronic Reading Room on the Internet at http://www.nrc.gov/reading-rm/adams.html. From this site, the public can gain entry into ADAMS, which provides text and image files of NRC's public documents. The proposed revisions to the LR-ISG process and RIS are available under ADAMS Accession Nos. ML082180346 and ML083500028, respectively. If you do not have access to the Internet or if there are any problems in accessing the documents located in ADAMS, contact the NRC Public Document Room reference staff at 1-800-397-4209, 301-415-4737, or by e-mail at PDR.Resource@nrc.gov.

Dated at Rockville, Maryland, this 21st day of April 2009.
For the Nuclear Regulatory Commission.
Brian E. Holian,
Director, Division of License Renewal, Office of Nuclear Reactor Regulation.

[FR Doc. E9-9504 Filed 4-24-09; 8:45 am]

BILLING CODE 7590-01-P